DEPARTMENT OF COMMERCE

National Oceanic and Atmospheric Administration

[I.D. 042604F]

Pacific Fishery Management Council; Public Meeting

AGENCY: National Marine Fisheries Service (NMFS), National Oceanic and Atmospheric Administration (NOAA), Commerce.

ACTION: Notice of a public meeting.

SUMMARY: The Pacific Fishery Management Council's (Council) Coastal Pelagic Species Management Team (CPSMT) will hold a work session, which is open to the public.

DATES: The CPSMT will meet Tuesday, May 18, 2004 from 9 a.m. until business for the day is completed.

ADDRESSES: The meeting will be held at NMFS, Southwest Region, 501 West Ocean Blvd., Conference Room 3400, Long Beach, CA 90802; telephone: (562) 980-4000.

Council address: Pacific Fishery Management Council, 7700 NE Ambassador Place, Suite 200, Portland, OR 97220-1384.

FOR FURTHER INFORMATION CONTACT: Mr. Dan Waldeck, Pacific Fishery Management Council; telephone: (503) 820-2280.

SUPPLEMENTARY INFORMATION: The primary purpose of the work session is to review the current Pacific mackerel stock assessment and develop harvest guideline and seasonal structure recommendations for the 2004-05 fishery. Planning for the CPS stock assessment review and election of CPSMT officers for 2004 will also occur. The 2004 CPS stock assessment and fishery evaluation (SAFE) document, and CPSMT considerations about the need for an amendment to the CPS fishery management plan to address management measures related to Pacific sardine allocation will also be discussed.

Although non-emergency issues not contained in the CPSMT meeting agenda may come before the CPSMT for discussion, those issues may not be the subject of formal action during this meeting. Action will be restricted to those issues specifically listed in this document and any issues arising after publication of this document that require emergency action under section 305(c) of the Magnuson-Stevens Fishery Conservation and Management Act, provided the public has been notified of the CPSMT's intent to take final action to address the emergency.

Special Accommodations

The meeting is physically accessible to people with disabilities. Requests for sign language interpretation or other auxiliary aids should be directed to Ms. Carolyn Porter at (503) 820-2280 at least 5 days prior to the meeting date.

Dated: April 26, 2004.
Bruce C. Morehead,
Acting Director, Office of Sustainable Fisheries, National Marine Fisheries Service.

[FR Doc. 04-9860 Filed 4-29-04; 8:45 am]

BILLING CODE 3510-22-S